DEPARTMENT OF VETERANS AFFAIRS

[OMB Control No. 2900-0232]

Agency Information Collection Activity: Verification of Eligibility for Burial in a National Cemetery

AGENCY: National Cemetery Administration (NCA), Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0232.

SUPPLEMENTARY INFORMATION:

Authority: Public Law 104-13; 44 U.S.C. 3501-3521.

Title: Verification of Eligibility for Burial in a National Cemetery.

OMB Control Number: 2900-0232.

Type of Review: Revision of a previously approved collection.

Abstract: VA requires applicants for national cemetery burial to provide information to verify eligibility for burial in a national cemetery, to schedule interment and to provide services requested by the decedent's family or personal representative. This information is also used for planning and scheduling cemetery services and to provide for specific requests from family members or the personal representative.

An agency may not conduct or sponsor, and a person is not required to respond to a collection of information unless it displays a currently valid OMB control number. The Federal Register Notice with a 60-day comment period soliciting comments on this collection of information published at Volume 85, No. 92, Tuesday, May 12, 2020, page 28138.

Affected Public: Individuals and households.

Estimated Annual Burden: 33,750.

Estimated Average Burden per Respondent: 15 minutes.

Frequency of Response: One-time.

Estimated Number of Respondents: 135,000.

By direction of the Secretary.
Danny S. Green,
Department Clearance Officer, Office of Quality, Performance, and Risk, Department of Veterans Affairs.

[FR Doc. 2020-16506 Filed 7-29-20; 8:45 am]

BILLING CODE 8320-01-P